CONSUMER PRODUCT SAFETY COMMISSION

Sunshine Act Meeting

TIME AND DATE: Wednesday, June 2, 2021; 9:00 a.m.-12:00 p.m.

PLACE: Due to the COVID-19 Pandemic, the meeting will be held remotely.

STATUS: Commission Meeting—Open to the Public.

MATTERS TO BE CONSIDERED:

Decisional Matters: Accreditation of the Laboratory of Guangsheng M&P Manufacturing Co. Ltd. Conformity Assessment Body as a “Firewalled” Third Party Laboratory and Related Delegation of Authority; and

Final Rule: Safety Standard for Infant Sleep Products

All attendees should register for the Webinar. To register for the Webinar, please visit https://attendee.gotowebinar.com/register/1135239573826588688 and fill in the information. After registering you will receive a confirmation email containing information about joining the webinar.

CONTACT PERSON FOR MORE INFORMATION: Alberta Mills, Office of the Secretariat, Office of the General Counsel, U.S. Consumer Product Safety Commission, 4330 East West Highway, Bethesda, MD 20814, (301) 504-6833 (Office) or (240) 863-8938 (Cell).

Dated: May 25, 2021.
Alberta E. Mills,
Commission Secretary.

[FR Doc. 2021-11418 Filed 5-26-21; 11:15 am]

BILLING CODE 6355-01-P